DEPARTMENT OF ENERGY

Western Area Power Administration

Pick-Sloan Missouri Basin Program—Eastern Division—2021 Power Marketing Initiative Proposal

AGENCY: Western Area Power Administration, DOE.

ACTION: Notice of re-opening of comment period.

SUMMARY: Western Area Power Administration (Western), Upper Great Plains Region, a Federal power marketing agency of the Department of Energy (DOE) published the proposed 2021 Power Marketing Initiative (2021 PMI) in the Federal Register on March 4, 2011. The proposed 2021 PMI provides the basis for marketing the long-term firm hydroelectric resources of the Pick-Sloan Missouri Basin Program—Eastern Division (P-SMBP—ED) beyond December 31, 2020, when Western's Firm Electric Service contracts associated with the current marketing plan will expire. The proposed 2021 PMI extends the current P-SMBP—ED marketing plan, with amendments to the contract term and resource pools marketing plan principles. The comment period for the proposed 2021 PMI ended on May 4, 2011. Western received a comment requesting additional time to supplement comments on the proposed 2021 PMI. This Federal Register notice re-opens the written comment period for the proposed 2021 PMI until September 6, 2011.

DATES: Entities interested in commenting on the proposed 2021 PMI must submit written comments to Western's Upper Great Plains Regional Office. Western must receive written comments by 4 p.m., M.D.T., on September 6, 2011. Western reserves the right to not consider any comments that are received after the prescribed date and time.

ADDRESSES: Submit written comments regarding the proposed 2021 PMI to Robert J. Harris, Regional Manager, Upper Great Plains Region, Western Area Power Administration, 2900 4th Avenue North, Billings, MT 59101-1266. Comments may also be faxed to (406) 255-2900 or e-mailed to UGP2021@wapa.gov.

FOR FURTHER INFORMATION CONTACT: John A. Pankratz, Public Utilities Specialist, Upper Great Plains Region, Western Area Power Administration, 2900 4th Avenue North, Billings, MT 59101-1266, telephone (406) 255-2932, e-mail UGP2021@wapa.gov.

SUPPLEMENTARY INFORMATION: Western initiated 2021 PMI discussions with P-SMBP—ED firm power customers in November 2010 by hosting meetings, including one conference call meeting, throughout the Upper Great Plains Region. The meetings provided all firm power customers the opportunity to review current marketing plan principles and provide informal input to Western for consideration in the 2021 PMI proposal. Western sent a letter to all firm power customers inviting them to attend these meetings. In addition, due to the special and unique relationship between the United States and tribal governments, Western initiated government-to-government consultation by sending a certified letter to each tribal firm power customer, inviting them to attend Native American-focused meetings. As part of, and in order to facilitate ongoing consultation, Western hosted Native American-focused meetings, including one conference call meeting, throughout the Upper Great Plains Region.

The proposed 2021 PMI (76 FR 12104) was published in the Federal Register on March 4, 2011. Western mailed the proposed 2021 PMI Federal Register notice to all firm power customers and other interested parties on March 7, 2011. As part of ongoing government-to-government consultation, Western representatives also contacted tribal firm power customers directly to discuss the proposed 2021 PMI Federal Register notice, including the information and comment forum dates and times. Western held public information and comment forums on April 13, 14, and 20, 2011, to accept oral and written comments on the proposed 2021 PMI. The proposed 2021 PMI comment period ended on May 4, 2011.

Western received a comment on May 4, 2011, from a Native American tribe requesting further government-to-government consultation and additional time to provide supplemental comments on the proposed 2021 PMI.

Western is granting the request for additional time for all entities to provide new and or supplemental comments and by this Federal Register notice is re-opening the comment period for the proposed 2021 PMI until 4 p.m. M.D.T., on September 6, 2011. Western deems any comments submitted between May 4, 2011, and September 6, 2011 to be timely submitted.

Dated: July 27, 2011.
Timothy J. Meeks,
Administrator.

[FR Doc. 2011-19777 Filed 8-3-11; 8:45 am]

BILLING CODE 6450-01-P